SMALL BUSINESS ADMINISTRATION

13 CFR Part 120

Gulf Opportunity Pilot Loan Program (GO Loan Pilot)

AGENCY: U.S. Small Business Administration (SBA).

ACTION: Notice of extension of waiver of regulatory provisions.

SUMMARY: This notice announces the extension of the “Notice of waiver of regulatory provisions” for SBA's Gulf Opportunity Pilot Loan Program (GO Loan Pilot) until September 30, 2007. Due to the scope and magnitude of the devastation to Presidentially-declared disaster areas resulting from Hurricanes Katrina and Rita, the Agency is extending its full guaranty and streamlined and centralized loan processing available through the GO Loan Pilot to the small businesses in the eligible parishes/counties through September 30, 2007.

DATES: The waiver of regulatory provisions published in the Federal Register on November 17, 2005, is extended under this notice until September 30, 2007.

FOR FURTHER INFORMATION CONTACT: Charles Thomas, Office of Financial Assistance, U.S. Small Business Administration, 409 Third Street, SW., Washington, DC 20416; Telephone (202) 205-6490; charles.thomas@sba.gov.

SUPPLEMENTARY INFORMATION: In November 2005, SBA initiated, on an emergency basis, the GO Loan Pilot, which was designed to provide expedited small business financial assistance to businesses located in those communities severely impacted by Hurricanes Katrina and Rita. Under this unique initiative, the Agency provides its full (85%) guaranty and streamlined and centralized loan processing to all eligible lenders that agree to make expedited SBA 7(a) loans available to small businesses located in, locating to or re-locating in the parishes/counties that have been Presidentially-declared as disaster areas resulting from Hurricanes Katrina and Rita, plus any contiguous parishes/counties.

To maximize the effectiveness of the GO Loan Pilot, on November 17, 2005, SBA published a notice in the Federal Register waiving for the GO Loan Pilot certain Agency regulations applicable to the 7(a) Business Loan Program. (70 FR 69645) Since the pilot was designed as a temporary program scheduled to expire on September 30, 2006, the waiver of certain Agency regulations also was due to expire on September 30, 2006. However, the Agency believes that there is a continuing, substantial need for the specific SBA assistance provided by this pilot in the affected areas. As part of a comprehensive federal initiative to assist in the continuing recovery of these highly devastated communities, the Agency believes it is essential that SBA extend this unique and vital program through September 30, 2007. Accordingly, the SBA also is extending its waiver of the certain Agency regulations identified in the Federal Register notice at 70 FR 69645 through September 30, 2007.

SBA's waiver of these provisions is authorized by Agency regulations. These waivers apply only to those loans approved under the GO Loan Pilot and will last only for the duration of the Pilot, which expires September 30, 2007. As part of the GO Loan Pilot, these waivers apply only to those small businesses located in, locating to or re-locating in the parishes/counties that have been Presidentially-declared as disaster areas resulting from Hurricanes Katrina or Rita, plus any contiguous parishes/counties. (A list of all eligible parishes/counties is located at http:/www.sba.gov/financing/index.html.)

(Authority: 15 U.S.C. 636(a)(24); 13 CFR 120.3)

Michael W. Hager,
Associate Deputy Administrator for Capital Access.

[FR Doc. E6-15993 Filed 9-28-06; 8:45 am]

BILLING CODE 8025-01-P